DEPARTMENT OF HEALTH AND HUMAN SERVICES

Centers for Disease Control and Prevention

[60Day-02-15]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Evaluation of Block Grants for Rape Prevention and Education—New—National Center for Injury Prevention and Control (NCIPC), Centers for Disease Control and Prevention (CDC). The Rape Prevention and Education (RPE) Grant Program strengthens violence against women prevention efforts by supporting increased awareness, education and training, and the operation of hotlines. The purpose of this program is to award formula grants to States and Territories to be used for RPE programs conducted by rape crisis centers, state sexual assault coalitions, and other public and private nonprofit entities.

Although the Rape Prevention and Education program has been funded since 1996 little is known about how the funds are allocated and utilized in each state and what each state's public health needs are with regard to rape prevention and education. In order to effectively administer and collaboratively work with state's to enhance the utilization of these funds, the CDC needs to know how these funds are allocated, what activities are being conducted with these funds and the kinds of data they are collecting. The primary objectives of this study are to:

1. Document the intended goals and objectives of the RPE program as it relates to the activities of state health departments and sexual assault coalitions, from the perspective of various stakeholder levels (e.g., National, state and local); 2. Assess the allocation mechanisms, uses, and impact of the funds for RPE as they relate to these documented intentions; and, 3. Assess public health needs of states and local programs in terms of knowledge, skills, resources, and barriers to effective implementation.

To meet these objectives, a variety of data collection tasks will be employed. A critical review of the published literature and related materials pertaining to the monies for RPE will be conducted to provide guidance for the survey instrument development. Two e-mail surveys will be conducted: One with the state health department RPE coordinators and the other with sexual assault coalition directors. Each survey instrument will take approximately 30 minutes to complete. Site visits will be conducted with a sample of 15 sites to obtain more detailed information about the RPE programs and the current systems in place. Sites will be purposefully selected to maximize variability and interviews will be conducted with both the state health department RPE coordinators and the state sexual assault coalition directors. There is no cost to the respondent.

Respondents | Number of respondents | Number of responses/respondent | Average burden/response (in hours) | Total burden (in hours)
State Health Department RPE Coordinators | 59 | 1 | 30/60 | 30
State Sexual Assault Coalition Directors | 59 | 1 | 30/60 | 30
State Health Department RPE Coordinators | 15 | 1 | 3 | 45
State Sexual Assault Coalition Directors | 15 | 1 | 3 | 45
Total |  |  |  | 150

Dated: December 3, 2001.
Nancy E. Cheal,
Acting Associate Director for Policy, Planning and Evaluation, Centers for Disease Control and Prevention.

[FR Doc. 01-30395 Filed 12-7-01; 8:45 am]

BILLING CODE 4163-18-P